DEPARTMENT OF TRANSPORTATION

Federal Highway Administration

Notice of Final Federal Agency Actions on Proposed Highway in California

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed highway project, along State Route 52 from east of Interstate 15 to Mast Boulevard in the County of San Diego, State of California. Those actions grant licenses, permits, and approvals for the project.

DATES: By this notice, the FHWA is advising the public of final agency action subject to 23 U.S.C. 139(l)(1). A claim seeking judicial review of the Federal agency actions on the highway project will be barred unless the claim is filed on or before November 27, 2007. If the Federal law that authorizes judicial review of a claim provides a time period of less than 180 days for filing such claim, then that shorter time period still applies.

FOR FURTHER INFORMATION CONTACT: Steve Healow, Project Development Engineer, Federal Highway Administration, 650 Capitol Mall #4-100, Sacramento, CA 95814, weekdays between the hours of 7 a.m. and 4 p.m., telephone 916-498-5849, E-mail: Steve.Healow@fhwa.dot.gov or David Nagy, Environmental Branch Chief, California Department of Transportation, MS 242, 4050 Taylor Street, San Diego, CA 92110, Phone: (619) 688-0224, E-mail: david.nagy@dot.ca.gov.

SUPPLEMENTARY INFORMATION: Notice is hereby given that the FHWA has taken final agency actions subject to 23 U.S.C. 139(l)(1) by issuing a Finding of No Significant Impact constituting approval pursuant to the National Environmental Policy Act for the following highway project in the State of California. The project will widen State Route 52 from 12 to 24 feet into the median from east of Interstate 15 (Postmile 7.4) to Mast Boulevard (Postmile 13.3), a distance of 5.8 miles to accommodate an extra lane in each direction. The project proposes to increase capacity by adding a lane in both eastbound and westbound directions. The project would relieve peak hour traffic congestion, meet anticipated traffic increases, and improve traffic flow on State Route 52. [FHWA File #: 11-SD-52, PM 7.5/13.3] The actions by the Federal agency and the laws under which such actions were taken are described in the Final Environmental Assessment (FEA) for the project, approved on April 24, 2007, in the FHWA Finding of No Significant Impact (FONSI) issued on April 24, 2007 and in other documents in the FHWA project records. The FEA, FONSI, and other project records are available by contacting FHWA or the California Department of Transportation at the addresses provided above.

This notice applies to all Federal agency decisions as of the issuance date of this notice and all laws under which such actions were taken, including but not limited to:

1. General: National Environmental Policy Act (NEPA) [42 U.S.C. 4321-4351].

2. Air: Clean Air Act [42 U.S.C. 7401-7671(q)].

3. Migratory Bird Treaty Act [16 U.S.C. 703-712].

4. Historic and Cultural Resources: Section 106 of the National Historic Preservation Act of 1966, as amended [16 U.S.C. 470(f) et seq.].

5. Clean Water Act (Section 401) [33 U.S.C. 1251-1377].

6. Federal Actions to Address Environmental Justice in Minority Populations and Low Income Populations.

7. E.O. 13112 Invasive Species.

(Catalog of Federal Domestic Assistance Program Number 20.205, Highway Planning and Construction. The regulations implementing Executive Order 12372 regarding intergovernmental consultation on Federal programs and activities apply to this program.)

Authority: 23 U.S.C. § 139(l)(1).

Issued on: May 22, 2007.
David Tedrick,
Environmental Program Coordinator, Sacramento, CA.

[FR Doc. E7-10388 Filed 5-30-07; 8:45 am]

BILLING CODE 4910-RY-P